DEPARTMENT OF TRANSPORTATION

Federal Aviation Administration

14 CFR Part 39

[Docket No. 2001-NM-303-AD; Amendment 39-13454; AD 2004-03-10]

RIN 2120-AA64

Airworthiness Directives; Airbus Model A300 B4-600, B4-600R, and F4-600R (Collectively Called A300-600) Series Airplanes; and Model A310 Series Airplanes

AGENCY: Federal Aviation Administration, DOT.

ACTION: Final rule.

SUMMARY: This amendment adopts a new airworthiness directive (AD), applicable to all Airbus Model A300 B4-600, B4-600R, and F4-600R (collectively called A300-600) series airplanes; and Model A310 series airplanes. This AD requires revising the Airplane Flight Manual (AFM) to provide the flight crew with procedures to maintain controllability of the airplane in the event of an in-flight deployment of the thrust reverser. This action is necessary to ensure that the flight crew is advised of the potential hazard associated with an in-flight deployment of the thrust reverser, and the procedures necessary to address it. This action is intended to address the identified unsafe condition.

DATES: Effective March 15, 2004.

ADDRESSES: Information pertaining to this amendment may be examined at the Federal Aviation Administration (FAA), Transport Airplane Directorate, Rules Docket, 1601 Lind Avenue, SW., Renton, Washington.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to all Airbus Model A300 B4-600, B4-600R, and F4-600R (collectively called A300-600) series airplanes; and Model A310 series airplanes; was published in the Federal Register on August 9, 2002 (67 FR 51787). That action proposed to require revising the Airplane Flight Manual (AFM) to provide the flight crew with procedures to maintain controllability of the airplane in the event of an in-flight deployment of the thrust reverser.

Comments

Interested persons have been afforded an opportunity to participate in the making of this amendment. Due consideration has been given to the single comment received.

Request To Clarify What AFM Section Must Be Revised

One commenter requests that the FAA clarify what section of the AFM must be revised. The commenter notes that the “Explanation of Requirements of Proposed Rule” section of the Notice of Proposed Rulemaking (NPRM) states, “the proposed AD would require revising the Limitations and Procedures section of the AFM.” The commenter notes that the body of the AD does not specify to revise the Limitations section of the AFM.

We agree that the reference in the “Explanation of Requirements of Proposed Rule” section of the NPRM is incorrect. That section is not restated in this final rule; thus, no change is necessary in this regard.

Explanation of Change to Final Rule

We recognize that the provisions of the AFM revision required by this AD may already have been incorporated into the AFM of affected airplanes through a general revision of the AFM. Thus, we have added a new Note 1 to this final rule (and reidentified subsequent notes accordingly) to state that, when a “ENG REV UNLK” procedure identical to that in paragraph (a) of this AD has been included in the general revisions of the AFM, inserting the general revisions into the AFM is acceptable for compliance with this AD.

Conclusion

After careful review of the available data, including the comment noted above, the FAA has determined that air safety and the public interest require the adoption of the rule with the change described previously. The FAA has determined that this change will neither increase the economic burden on any operator nor increase the scope of the AD.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Explanation of Change to Cost Impact

After the proposed AD was issued, we reviewed the figures we use to calculate the labor rate to do the required actions. To account for various inflationary costs in the airline industry, we find it appropriate to increase the labor rate used in these calculations from $60 per work hour to $65 per work hour. The economic impact information, below, has been revised to reflect this increase in the specified hourly labor rate.

Cost Impact

The FAA estimates that 128 airplanes of U.S. registry will be affected by this AD, that it will take approximately 1 work hour per airplane to accomplish the proposed AFM revision, and that the average labor rate is $65 per work hour. Based on these figures, the cost impact of this AD on U.S. operators is estimated to be $8,320, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-10 Airbus: Amendment 39-13454. Docket 2001-NM-303-AD.

Applicability: All Model A300 B4-600, A300 B4-600R, and F4-600R (collectively called A300-600) series airplanes; and all Model A310 series airplanes; certificated in any category.

Compliance: Required as indicated, unless accomplished previously.

To ensure that the flight crew is advised of the potential hazard associated with an in-flight deployment of the thrust reverser, and the procedures necessary to address it, accomplish the following:

Revisions to the Airplane Flight Manual

(a) Within 60 days after the effective date of this AD, revise the Procedures Following Failures section of the Airplane Flight Manual (AFM) to include the “ENG REV UNLK” procedure contained in this paragraph of this AD. This may be accomplished by inserting a copy of this AD into the AFM.

“For airplanes fitted with ECAM SGU standard W23 or above:

ENG REV UNLK (MOD 10264 or MOD 10908 or 11318)

—THROTTLE | IDLE
—MAX SPEED | 300 KT
IF BUFFET OR BANK:
—FUEL LEVER | OFF
—MAX SPEED | 240 KT
—Approach Speed: 1.3 Vs of selected landing configuration plus 10 kt. For airplanes fitted with ECAM SGU standard earlier than W23:
ENG REV UNLK
—THROTTLE | IDLE (memory item)
—MAX SPEED | 300 KT (memory item)
IF BUFFET OR BANK:
—FUEL LEVER | OFF
—MAX SPEED | 240 KT
—Approach Speed: 1.3 Vs of selected landing configuration plus 10 kt.”

Note 1: When an “ENG REV UNLK” procedure identical to that in paragraph (a) of this AD has been included in the general revisions of the AFM, the general revisions may be inserted into the AFM, and the copy of this AD may be removed from the AFM.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the Manager, International Branch, ANM-116.

Special Flight Permits

(c) Special flight permits may be issued in accordance with sections 21.197 and 21.199 of the Federal Aviation Regulations (14 CFR 21.197 and 21.199) to operate the airplane to a location where the requirements of this AD can be accomplished.

Note 3: The subject of this AD is addressed in French airworthiness directive 2001-186(B), dated May 16, 2001.

Effective Date

(d) This amendment becomes effective on March 15, 2004.

Issued in Renton, Washington, on January 29, 2004.
Kalene C. Yanamura,
Acting Manager, Transport Airplane Directorate, Aircraft Certification Service.

[FR Doc. 04-2572 Filed 2-6-04; 8:45 am]

BILLING CODE 4910-13-P